DEPARTMENT OF COMMERCE

National Oceanic and Atmospheric Administration

[I.D. 051705C]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings June 1 through June 9, 2005.

DATES: The Council's Advisory Panel will begin at 8 a.m., Wednesday, June 1 and continue through Sunday June 5, 2005. The Scientific and Statistical Committee will begin at 8 a.m. on Wednesday, June 1, 2005, and continue through Friday, June 3, 2005.

The Council will begin its plenary session at 8 a.m. on Friday June 3 continuing through Thursday June 9. All meetings are open to the public except executive sessions. The Ecosystem Committee will meet Thursday, June 2, from 1 p.m. to 5 p.m. The Enforcement Committee will meet Thursday, June 2, from 1 p.m. to 5 p.m.

ADDRESSES: Alyeska Prince Hotel, Seward Highway, Girdwood, AK.

Council address: North Pacific Fishery Management Council, 605 W. 4th Avenue, Suite 306, Anchorage, AK 99501-2252.

FOR FURTHER INFORMATION CONTACT: Council staff, Phone: 907-271-2809.

SUPPLEMENTARY INFORMATION: Council Plenary Session: The agenda for the Council's plenary session will include the following issues. The Council may take appropriate action on any of the issues identified.

1. Reports

Executive Director's Report

NMFS Management Report (includes comment on proposed rule language for Bering Sea Aleutian Island (BSAI) Amendment 79 and Vessel Monitoring System (VMS) requirements for Gulf of Alaska (GOA) and Essential Fish Habitat (EFH) measures and possible Environmental Impact Statement (EIS) for specifications process)

U.S. Coast Guard Report

NMFS Enforcement Report

Alaska Department of Fish & Game (ADF&G) Report (GHL issues delayed to October)

U.S. Fish & Wildlife Service Report

North Pacific Research Board (NPRB) Report

Alaska Fishery Science Center (AFSC) Fishery Interaction research

Protected Species Report (includes update on Council/Board of Fisheries Committee and Marine Mammal Protection Act (MMPA) listing)

Alaska Ocean Observing System (AOOS)

2. Community Development Quota (CDQ) Management of Reserves: Status Report and action as necessary to refine alternatives

3. GOA Groundfish Rationalization: Receive Community Committee report. Review Preliminary Alternatives for Tanner Crab Bycatch. Review other information and refine alternatives

4. GOA Rockfish Demonstration Project: Final action

5. BSAI Pacific Cod Allocations: Review discussion paper on seasonal allocation issues and refine alternatives as necessary. Review discussion paper on alternative in-season management measures and refine alternatives as necessary

6. BSAI Salmon Bycatch: Initial Review

7. Bairdi Crab Split: Initial Review

8. Improved Retention/Improved Utilization (IR/IU): Initial Review of Amendment 80 Environmental Assessment/Regulatory Impact Review/Initial Regulatory Flexibility Analysis (EA/RIR/IRFA) (Head & Gut Cooperatives)

9. Observer Program Restructuring: Update of on Fair Labor Standard Act issues and discussion with Department of Labor. Preliminary Review of EA/RIR/IRFA. Review of Observer Advisory Committee report

10. Groundfish Management: GOA Other Species calculation: Final Action

11. Crab: Crab Plan Team report, action as necessary

12. Ecosystem Management: Review Aleutian Island Area-specific management discussion paper, action as appropriate; review discussion paper on the Council's role in Ecosystem Approach Management, action as appropriate

13. Staff Tasking: Review tasking and committees and initiate action as appropriate. Programmatic Supplemental Environmental Impact Statement (PSEIS) Priorities, review objectives and develop workplan

14. Other Business

Scientific and Statistical Committee (SSC): The SSC agenda will include the following issues:

GOA Rockfish Demonstration Project

BS/AI Salmon Bycatch

Bairdi Crab Split

IR/IU

Observer Program

North Pacific Research Board Report

AFSC Fishery Research

Protected Species Report

AOOS Report

Crab

Ecosystem Management

Advisory Panel: The Advisory Panel will address the same agenda issues as the Council.

Special Accommodations

These meetings are physically accessible to people with disabilities. Requests for sign language interpretation or other auxiliary aids should be directed to Gail Bendixen at 907-271-2809 at least 7 working days prior to the meeting date.

Dated: May 17, 2005.
Tracey L. Thompson,
Acting Director, Office of Sustainable Fisheries, National Marine Fisheries Service.

[FR Doc. E5-2529 Filed 5-19-05; 8:45 am]

BILLING CODE 3510-22-S